DEPARTMENT OF HEALTH AND HUMAN SERVICES

Health Resources and Services Administration

Agency Information Collection Activities: Proposed Collection: Public Comment Request; Ryan White HIV/AIDS Program Client-Level Data Reporting System, OMB No. 0915-0323—Extension

AGENCY: Health Resources and Services Administration (HRSA), Department of Health and Human Services (HHS).

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than May 26, 2017.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference, pursuant to Section 3506(c)(2)(A), the Paperwork Reduction Act of 1995.

Information Collection Request Title: Client-Level Data Reporting System.

OMB No: 0915-0323—Extension.

Abstract: The Ryan White HIV/AIDS Program's (RWHAP) client-level data reporting system, entitled the RWHAP Services Report or the Ryan White Services Report (RSR), is designed to collect information from grant recipients, as well as their subcontracted service providers, funded under Parts A, B, C, and D of the Ryan White HIV/AIDS Treatment Extension Act of 2009. The RWHAP, authorized under Title XXVI of the Public Health Service Act, as amended by the Ryan White HIV/AIDS Treatment Extension Act of 2009, provides entities funded by the program with flexibility to respond effectively to the changing HIV epidemic, with an emphasis on providing life-saving and life-extending services for people living with HIV across this country, as well as targeting resources to areas that have the greatest needs.

Need and Proposed Use of the Information: All parts of RWHAP specify HRSA's responsibilities in administering grant funds, allocating funds, evaluating programs for the populations served, and improving quality of care. The RSR provides data on the characteristics of RWHAP-funded recipients, their contracted service providers, and the clients served with program funds. The RSR is intended to support clinical quality management, performance measurement, service delivery, and client monitoring at the service provider and client levels. The RSR reporting system consists of two online data forms, the Recipient Report and the Service Provider Report, as well as a data file containing the client-level data elements. Data are submitted annually. The statute specifies the importance of recipient accountability for the services delivered and the funding allocated and expended for those services as specified in their grant award and linking performance to budget. The RSR is used to ensure compliance with the law, including evaluating the progress of programs, monitoring recipient and provider performance, and informing annual reports to Congress. Information collected through the RSR is critical for HRSA, state and local recipients, and individual providers to assess the status of existing HIV-related service delivery systems, assess trends in service utilization, and identify areas of greatest need.

Likely Respondents: RWHAP Part A, Part B, Part C, and Part D recipients and their contracted service providers.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
Grantee Report | 475 | 1 | 475 | 7 | 3,325
Provider Report | 2,079 | 1 | 2,079 | 17 | 35,343
Client Report | 1,607 | 1 | 1,607 | 67 | 107,669
Total | 4,161 |  | 4,161 |  | 146,337

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2017-05944 Filed 3-24-17; 8:45 am]

BILLING CODE 4165-15-P